DEPARTMENT OF COMMERCE

National Oceanic and Atmospheric Administration

[RTID 0648-XD271]

Pacific Fishery Management Council; Public Meetings

AGENCY: National Marine Fisheries Service (NMFS), National Oceanic and Atmospheric Administration (NOAA), Commerce.

ACTION: Notice of public meetings.

SUMMARY: The Pacific Fishery Management Council (Pacific Council) and its advisory bodies will meet September 7-14, 2023 in Spokane, Washington and via webinar. The Council meeting will be live streamed with the opportunity to provide public comment remotely.

DATES: The Pacific Council meeting will begin on Saturday, September 9, 2023, at 9 a.m. Pacific Daylight Time (PDT), reconvening at 8 a.m. on Sunday, September 10 through Thursday, September 14, 2023. All meetings are open to the public, except for a Closed Session held from 8 a.m. to 9 a.m., Saturday, September 9, to address litigation and personnel matters. The Pacific Council will meet as late as necessary each day to complete its scheduled business.

ADDRESSES: Meetings of the Pacific Council and its advisory entities will be held at the Doubletree by Hilton Hotel Spokane City Center, 322 N Spokane Falls Court, Spokane, WA; telephone: (509) 455-9600. Specific meeting information, including directions on joining the meeting, connecting to the live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2418 or (866) 806-7204 toll-free, or access the Pacific Council website, www.pcouncil.org, for the proposed agenda and meeting briefing materials.

SUPPLEMENTARY INFORMATION: The September 7-14, 2023 meeting of the Pacific Council will be streamed live on the internet. The broadcasts begin initially at 9 a.m. PDT Saturday, September 9, 2023, and 8 a.m. PDT Sunday, September 10 through Thursday, September 14, 2023. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.3, Proposed Council Meeting Agenda, and will be in the advance September 2023 briefing materials and posted on the Pacific Council website at www.pcouncil.org no later than Friday, August 18, 2023.

A. Call to Order

1. Opening Remarks

2. Roll Call

3. Agenda

4. Executive Director's Report

B. Open Comment Period

1. Comments on Non-Agenda Items

C. Salmon Management

1. National Marine Fisheries Service Report

2. Methodology Review—Final Topic Selection

3. Fishery Management Plan (FMP) Amendment 24: Southern Resident Killer Whale Chinook Threshold Clarifications

D. Pacific Halibut Management

1. Preliminary Catch Sharing Plan and Regulations for Implementation in 2024 or Later

E. Habitat Issues

1. Current Habitat Issues

F. Ecosystem Management

1. Initiative 4: Ecosystem and Climate Information—Progress Report

G. Groundfish Management

1. National Marine Fisheries Service Report

2. Adopt Stock Assessments

3. Stock Assessment Methodology Review—Final Topics

4. Fixed Gear Marking and Entanglement Risk Reduction; Limited Entry and Follow On Actions

5. Cordell Bank Conservation Area Revisions—Scoping

6. Initial Harvest Specifications and Management Measures Actions for 2025-2026

7. Final Trawl Cost Project Phase 1 Report and Next Steps for the Trawl Catch Share and Allocation Reviews

8. Harvest Specifications Technical Corrections and Inseason Adjustments—Final Action

H. Administrative Matters

1. Chumash Heritage National Marine Sanctuary Designation

2. Great Farallones and Monterey Bay National Marine Sanctuaries Coral Restoration and Research Plan—Scoping

3. Marine Planning Update

4. Magnuson-Stevens Act Confidentiality Provisions—Proposed Rule (Cancelled)

5. National Marine Fisheries Service Geographic Strategic Plan and Regional Equity and Environmental Justice Implementation Plan

6. National Standards 4, 8, 9, Considerations and National Standard 1 Technical Guidance

7. Fiscal Matters

8. Approval of Council Meeting Record

9. Membership Appointments and Council Operating Procedures

10. Future Council Meeting Agenda and Workload Planning

I. Highly Migratory Species Management

1. National Marine Fisheries Service Report

2. International Management Activities

3. Exempted Fishing Permits—Final

4. Driftnet Modernization and Bycatch Reduction Act—Transition Update

5. Highly Migratory Species Essential Fish Habitat (EFH) Amendment—Preliminary

Advisory Body Agendas

Advisory body agendas will include discussions of relevant issues that are on the Pacific Council agenda for this meeting and may also include issues that may be relevant to future Council meetings. Proposed advisory body agendas for this meeting will be available on the Pacific Council website, www.pcouncil.org, no later than Friday, August 18, 2023 by the end of the business day.

Schedule of Ancillary Meetings

Day 1—Thursday, September 7, 2023

Groundfish Subcommittee Scientific and Statistical Committee—1 p.m.

Day 2—Friday, September 8, 2023

Equity and Environmental Justice Committee—8 a.m.

Groundfish Advisory Subpanel—8 a.m.

Groundfish Management Team—8 a.m.

Habitat Committee—8 a.m.

Salmon Advisory Subpanel—8 a.m.

Scientific and Statistical Committee—8 a.m.

Budget Committee—1 p.m.

Enforcement Consultants—2 p.m.

Day 3—Saturday, September 9, 2023

California State Delegation—7 a.m.

Oregon State Delegation—7 a.m.

Washington State Delegation—7 a.m.

Ecosystem Advisory Subpanel—8 a.m.

Groundfish Advisory Subpanel—8 a.m.

Groundfish Management Team—8 a.m.

Habitat Committee—8 a.m.

Scientific and Statistical Committee—8 a.m.

Enforcement Consultants—As Necessary

Day 4—Sunday, September 10, 2023

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—As Necessary

Day 5—Monday, September 11, 2023

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—As Necessary

Day 6—Tuesday, September 12, 2023

California State Delegation—7 a.m.

Oregon State Delegation—7 a.m.

Washington State Delegation—7 a.m.

Groundfish Advisory Subpanel—8 a.m.

Groundfish Management Team—8 a.m.

Highly Migratory Species Advisory Subpanel—8 a.m.

Highly Migratory Species Management Team—8 a.m.

Enforcement Consultants—As Necessary

Day 7—Wednesday, September 13, 2023

California State Delegation—7 a.m.

Oregon State Delegation—7 a.m.

Washington State Delegation—7 a.m.

Highly Migratory Species Advisory Subpanel—8 a.m.

Highly Migratory Species Management Team—8 a.m.

Enforcement Consultants—As Necessary

Day 8—Thursday, September 14, 2023

California State Delegation—7 a.m.

Oregon State Delegation—7 a.m.

Washington State Delegation—7 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: August 18, 2023.
Rey Israel Marquez,
Acting Deputy Director, Office of Sustainable Fisheries, National Marine Fisheries Service.

[FR Doc. 2023-18195 Filed 8-23-23; 8:45 am]

BILLING CODE 3510-22-P